NUCLEAR REGULATORY COMMISSION

10 CFR Parts 1, 2, 37, 40, 50, 51, 52, 55, 71, 72, 73, 74, 100, 140, and 150

[NRC-2019-0170]

RIN 3150-AK37

Organizational Changes and Conforming Amendments

Correction

In rule document 2019-25847, appearing on pages 65639 through 65646, in the issue of Friday, November 29, 2019 make the following correction:

On page 65639, in the third column, in the DATES section, on the second line, “December 30, 2020” should read “December 30, 2019”.

[FR Doc. C1-2019-25847 Filed 12-4-19; 8:45 am]

BILLING CODE 1300-01-D